DEPARTMENT OF LABOR

Employment and Training Administration

Investigations Regarding Certifications of Eligibility To Apply for worker Adjustment Assistance

Petitions have been field with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not late than February 25, 2002.

Interested persons are invited to submit written comments regarding the subject matter of the investigations to the Director, Division of Trade Adjustment Assistance, at the address shown below, not later than February 25, 2002.

The petitions filed in this case are available for inspection at the Office of the Director, Division of Trade Adjustment Assistance, Employment and Training Administration, U.S. Department of Labor, Room C-5311, 200 Constitution Avenue, NW., Washington, DC 20210.

Signed at Washington, DC, this 22nd day of January, 2002.
Edward A. Tomchick,
Director, Division of Trade Adjustment Assistance.

Appendix
[Petitions instituted on 01/22/2002]
TA-W | Subject firm (Petitioners) | Location | Date of petition | Product(s)
40,589 | Agere Systems (IBEW) | Breinigsville, PA | 09/06/2001 | Fiber-optic devices.
40,590 | Alfa Laval, Inc (Wrks) | Kenosha, WI | 10/18/2001 | Fittings, pumps and valves.
40,591 | Parker Hannifin Corp (Co.) | Sarasota, FL | 10/17/2001 | Hydraulic valves and gear pumps.
40,592 | Spectrian (Wrks) | Sunnyvale, PA | 10/30/2001 | Power amplifiers.
40,593 | TRW, Inc (Co.) | Rogersville, TN | 10/17/2001 | Rack tubes—rack and pinion steering.
40,594 | Alcoa Fujikura Ltd (Wrks) | El Paso, TX | 10/25/2001 | Wire harnesses assemblies.
40,595 | Elkem Metals Co (PACE) | Alloy, WV | 10/30/2001 | Silicon and ferrosilicon alloys.
40,596 | Tyco Electronics Power (CWA) | Mesquite, TX | 10/22/2001 | Power supplies.
40,597 | Huhtamaki Food Service (Wrks) | Mt. Carmel, PA | 10/29/2001 | Plastic containers, lids.
40,598 | Parker Hannifin Corp. (Wrks) | Eaton, OH | 10/25/2001 | Tube fittings.
40,599 | Erie Concrete and Steel (Co.) | Erie, PA | 10/19/2001 | Structural steel beams and plates.
40,600 | FiberTech Group, Inc (Co.) | Landisville, NJ | 10/18/2001 | Non-woven roll goods.
40,601 | ArvinMeritor, Inc. (Co.) | Fayette, AL | 10/19/2001 | Automotive exhaust components.
40,602 | Chemwest Systems, Inc. (Wrks) | Portland, OR | 11/02/2001 | Plastic storage cabinets.
40,603 | Tiffany Knits, Inc. (Wrks) | Schuylkill Have, PA | 11/05/2001 | Circular knit fabrics.
40,604 | Matsushita Kotobuki (Co.) | Vancouver, WA | 11/13/2001 | Electronics.
40,605 | Powerbrace Corp (Wrks) | Kenosha, WI | 11/13/2001 | Railcar gates, lock rods for trucks.
40,606 | Hibbing Taconite Co (Wrks) | Hibbing, MN | 11/16/2001 | Taconite pellets.
40,607 | Xerox Corp. (UNITE) | Farmington, NY | 11/27/2001 | Ink jet printhead cartridges.
40,608 | Boeing Defense and Space (Wrks) | Oak Ridge, TN | 11/21/2001 | Commercial aircraft wings.
40,609 | Lebold Vacuum USA, Inc (Wrks) | Export, PA | 12/07/2001 | Dry vacuum pumps.
40,610 | Goodyear Tire and Rubber (USWA) | East Gadsden, AL | 11/16/2001 | Radial passenger and truck tires.
40,611 | Hammond Power Solutions (Co.) | Baraboo, WI | 01/11/2002 | Dry type electrical transformers.
40,612 | Odetics, Inc. (Co.) | Anaheim, CA | 11/26/2001 | Electronic video surveillance equip.
40,613 | Celestica-Wisconsin (Wrks) | Chippewa Falls, WI | 11/30/2001 | Printed circuit boards.
40,614 | Port Townsend Paper (Wrks) | Portland, OR | 11/08/2001 | Paper bags.
40,615 | Emerson Electronic (Wrks) | Waseca, MN | 11/29/2001 | RF coaxial connector assemblies.
40,616 | Storm Copper Components (Co) | Decatur, TN | 11/13/2001 | Wire harnesses.
40,617 | Bull Moose Tube Co. (Wrks) | Gerald, MO | 11/08/2001 | Welded steel tubing.
40,618 | Acordis Industrial Fibers (Co.) | Scottsboro, AL | 11/30/2001 | Tire cord fabric.
40,619 | Cherry Electrical Product (Wrks) | Pleasant Prairi, WI | 11/29/2001 | Switch assemblies.
40,620 | Ethyl Petroleum Additives (Wrks) | Natchez, MS | 11/13/2001 | Petroleum additives.
40,621 | G.E. Transportation Globa (Wrks) | Warrensburg, MO | 11/19/2001 | Aluminum/steel bungalows.
40,622 | Teva Pharmaceuticals USA (Co.) | Elmwood Park, NJ | 11/02/2001 | Antibiotics.
40,623 | Pacific Scientific (Wrks) | Grants Pass, OR | 11/30/2001 | Particle counters and software.
40,624 | Trion Industries, Inc (Co.) | Wilkes Barre, PA | 11/05/2001 | Toy products packaging.
40,625 | Crane Pumps and Systems (PACE) | Decatur, IL | 11/14/2001 | Machined parts—water pumps.
40,626 | Allegheny Tool and Mfg (Co.) | Meadville, PA | 11/27/2001 | Spare tooling.
40,627 | Holland Company (Co.) | Hays, KS | 11/27/2001 | Welding.
40,628 | Erickson Air-Crane (Wrks) | Central Point, OR | 01/08/2002 | Logs, timber.
40,629 | Hyde Park Foundry (Co.) | Hyde Park, PA | 11/15/2001 | Steel rolls for metal processing.
40,630 | USA Apparel Enterprises (Co.) | Fall River, MA | 11/30/2001 | Ladies' dresses.
40,631 | Skips Cutting, Inc (Wrks) | Ephrata, PA | 11/19/2001 | Clothing—cut, sewn, dyed.
40,632 | Corning, Inc. (AFGWU) | Corning, NY | 11/08/2001 | Corning products.
40,633 | Morrison Berkshire, Inc (Co.) | North Adams, MA | 10/28/2001 | Textile needle looms.

[FR Doc. 02-3403 Filed 2-12-02; 8:45 am]

BILLING CODE 4510-30-M